DEPARTMENT OF LABOR

Office of Federal Contract Compliance Programs

41 CFR Part 60-741

RIN 1250-AA02

Affirmative Action and Nondiscrimination Obligations of Contractors and Subcontractors Regarding Individuals With Disabilities

AGENCY: Office of Federal Contract Compliance Programs, Labor.

ACTION: Notice of proposed rulemaking and extension of comment period.

SUMMARY: On December 9, 2011, the Office of Federal Contract Compliance Programs (OFCCP) published a Federal Register notice of proposed rulemaking (NPRM). This NPRM (76 FR 77056) proposes revising the regulations implementing the nondiscrimination and affirmative action regulations of section 503 of the Rehabilitation Act of 1973, as amended. This document extends the comment period for the proposed rule for fourteen (14) days. If you have already commented on the proposed rule, you do not need to resubmit your comment. OFCCP will consider all comments received from the date of publication of the proposed rule through the close of the extended comment period.

DATES: The comment period for the NPRM published on December 9, 2011, scheduled to close on February 7, 2012, is extended until February 21, 2012.

ADDRESSES: You may submit comments, identified by RIN 1250-AA02, by any of the following methods:

• Federal eRulemaking Portal: www.regulations.gov. Follow the instructions for submitting comments.

• Fax: (202) 693-1304 (for comments of six pages or less).

• Mail: Debra A. Carr, Director, Division of Policy, Planning, and Program Development, Office of Federal Contract Compliance Programs, Room C-3325, 200 Constitution Avenue NW., Washington, DC 20210.

FOR FURTHER INFORMATION CONTACT: Debra A. Carr, Director, Division of Policy, Planning and Program Development, Office of Federal Contract Compliance Programs, 200 Constitution Avenue NW., Room C-3325, Washington, DC 20210. Telephone: (202) 693-0103 (voice) or (202) 693-1337 (TTY).

SUPPLEMENTARY INFORMATION: On December 9, 2011, OFCCP published a proposed rule entitled, “Affirmative Action and Nondiscrimination Obligations of Contractors and Subcontractors Regarding Individuals with Disabilities” (76 FR 77056). OFCCP was to receive comments on this NPRM on or before February 7, 2012.

Various organizations and entities submitted requests to extend the comment period by an additional 90 days or more. We considered these requests and determined that it is appropriate to provide an additional 14-day period for comment on the proposed regulation. We are, therefore, extending the comment period until, Tuesday, February 21, 2012.

Extension of Comment Period: OFCCP determined that the public could use additional time to review the potential impact of the proposed requirements. Therefore, to allow the public sufficient time to review and comment on the NPRM, OFCCP is extending the comment period until February 21, 2012.

Signed at Washington, DC, this 6th day of February, 2012.
Patricia A. Shiu,
Director, Office of Federal Contract Compliance Programs.

[FR Doc. 2012-3106 Filed 2-7-12; 11:15 am]

BILLING CODE 4510-45-P